DEPARTMENT OF ENERGY

Federal Energy Regulatory Commission

Combined Notice of Filings #1

Take notice that the Commission received the following exempt wholesale generator filings:

Docket Numbers: EG17-17-000.

Applicants: TransCanada Maine Wind Development Inc.

Description: TransCanada Maine Wind Development Inc. Notice of Self-Certification of Exempt Wholesale Generator Status.

Filed Date: 10/28/16.

Accession Number: 20161028-5079.

Comments Due: 5 p.m. ET 11/18/16.

Docket Numbers: EG17-18-000.

Applicants: Innovative Solar 47, LLC.

Description: Notice of Self-Certification of Exempt Wholesale Generator Status of Innovative Solar 47, LLC.

Filed Date: 10/28/16.

Accession Number: 20161028-5153.

Comments Due: 5 p.m. ET 11/18/16.

Take notice that the Commission received the following electric rate filings:

Docket Numbers: ER16-2524-001.

Applicants: Entergy Louisiana, LLC.

Description: Tariff Amendment: EES Corrected LBA Agreements to be effective 9/1/2016.

Filed Date: 10/28/16.

Accession Number: 20161028-5000.

Comments Due: 5 p.m. ET 11/18/16.

Docket Numbers: ER16-2725-000.

Applicants: PSEG Energy Solutions LLC.

Description: Amendment to September 30, 2016 PSEG Energy Solutions LLC tariff filing.

Filed Date: 10/27/16.

Accession Number: 20161027-5228.

Comments Due: 5 p.m. ET 11/17/16.

Docket Numbers: ER17-202-000.

Applicants: Monterey CA, LLC.

Description: Tariff Cancellation: Cancellation to be effective 11/1/2016.

Filed Date: 10/27/16.

Accession Number: 20161027-5170.

Comments Due: 5 p.m. ET 11/17/16.

Docket Numbers: ER17-203-000.

Applicants: Southern California Edison Company.

Description: Compliance filing: SCE Combined Compliance Filing to be effective 10/14/2016.

Filed Date: 10/27/16.

Accession Number: 20161027-5181.

Comments Due: 5 p.m. ET 11/17/16.

Docket Numbers: ER17-204-000.

Applicants: Quantum Power Corp.

Description: Baseline eTariff Filing: Market Based Rate Tariff Baseline Filing to be effective 1/1/2017.

Filed Date: 10/28/16.

Accession Number: 20161028-5041.

Comments Due: 5 p.m. ET 11/18/16.

Docket Numbers: ER17-205-000.

Applicants: Upper Michigan Energy Resources Corporation.

Description: § 205(d) Rate Filing: UMERC to MSCPA FERC Rate Schedule No 8 to be effective 1/1/2017.

Filed Date: 10/28/16.

Accession Number: 20161028-5047.

Comments Due: 5 p.m. ET 11/18/16.

Docket Numbers: ER17-206-000.

Applicants: Upper Michigan Energy Resources Corporation.

Description: § 205(d) Rate Filing: UMERC to ATC Common Facilities Agreement Rate Schedule No 9 to be effective 1/1/2017.

Filed Date: 10/28/16.

Accession Number: 20161028-5050.

Comments Due: 5 p.m. ET 11/18/16.

Docket Numbers: ER17-207-000.

Applicants: California Power Exchange Corporation.

Description: § 205(d) Rate Filing: Rate Filing for Rate Period 30 to be effective 1/1/2017.

Filed Date: 10/28/16.

Accession Number: 20161028-5051.

Comments Due: 5 p.m. ET 11/18/16.

Docket Numbers: ER17-208-000.

Applicants: Public Service Company of Colorado.

Description: § 205(d) Rate Filing: 2016-10-28 Att O-PSCo Tbls 4, 5, 22-TOIF Filing to be effective 1/1/2017.

Filed Date: 10/28/16.

Accession Number: 20161028-5056.

Comments Due: 5 p.m. ET 11/18/16.

Docket Numbers: ER17-209-000.

Applicants: Upper Michigan Energy Resources Corporation.

Description: § 205(d) Rate Filing: UMERC to ATC Project Services Agreement Rate Schedule No 10 to be effective 1/1/2017.

Filed Date: 10/28/16.

Accession Number: 20161028-5089.

Comments Due: 5 p.m. ET 11/18/16.

Docket Numbers: ER17-210-000.

Applicants: Sabine Cogen, LP.

Description: § 205(d) Rate Filing: Reactive Rate Schedule and Request for Expedited Consideration to be effective 12/1/2016.

Filed Date: 10/28/16.

Accession Number: 20161028-5102.

Comments Due: 5 p.m. ET 11/18/16.

Docket Numbers: ER17-211-000.

Applicants: Mid-Atlantic Interstate Transmission, LL, PJM Interconnection, L.L.C.

Description: § 205(d) Rate Filing: MAIT submits OATT revisions re: MAIT, Penelec and MetEd Formula Rate/Protocols to be effective 1/1/2017.

Filed Date: 10/28/16.

Accession Number: 20161028-5109.

Comments Due: 5 p.m. ET 11/18/16.

Docket Numbers: ER17-212-000.

Applicants: Upper Michigan Energy Resources Corporation.

Description: § 205(d) Rate Filing: UMERC to Crystal Falls Rate Schedule 4 to be effective 1/1/2017.

Filed Date: 10/28/16.

Accession Number: 20161028-5110.

Comments Due: 5 p.m. ET 11/18/16.

Docket Numbers: ER17-213-000.

Applicants: Midcontinent Independent System Operator, Inc.

Description: § 205(d) Rate Filing: 2016-10-28_Module D Clean-up Filing to be effective 12/28/2016.

Filed Date: 10/28/16.

Accession Number: 20161028-5134.

Comments Due: 5 p.m. ET 11/18/16.

Docket Numbers: ER17-214-000.

Applicants: PJM Interconnection, L.L.C., Mid-Atlantic Interstate Transmission, LLC.

Description: § 205(d) Rate Filing: Revisions to OATT and OA re: MAIT Integration to be effective 1/1/2017.

Filed Date: 10/28/16.

Accession Number: 20161028-5135.

Comments Due: 5 p.m. ET 11/18/16.

Docket Numbers: ER17-215-000.

Applicants: Midcontinent Independent System Operator, Inc., Great River Energy, South Mississippi Electric Power Association.

Description: Compliance filing: 2016-10-28_Compliance filing to address ROE Order to be effective 9/28/2016.

Filed Date: 10/28/16.

Accession Number: 20161028-5140.

Comments Due: 5 p.m. ET 11/18/16.

Docket Numbers: ER17-216-000.

Applicants: PJM Interconnection, L.L.C., Mid-Atlantic Interstate Transmission, LLC.

Description: § 205(d) Rate Filing: Revisions to CTOA adding MAIT as Transmission Owner to be effective 1/1/2017.

Filed Date: 10/28/16.

Accession Number: 20161028-5145.

Comments Due: 5 p.m. ET 11/18/16.

Docket Numbers: ER17-217-000.

Applicants: Jersey Central Power & Light, PJM Interconnection, L.L.C.

Description: § 205(d) Rate Filing: JCPL submits revisions to OATT re: Attachment H Formula Rate/Protocol to be effective 1/1/2017.

Filed Date: 10/28/16.

Accession Number: 20161028-5151.

Comments Due: 5 p.m. ET 11/18/16.

Docket Numbers: ER17-218-000.

Applicants: California Independent System Operator Corporation.

Description: § 205(d) Rate Filing: 2016-10-28 Modify Definition Load Serving Entity to be effective 1/1/2017.

Filed Date: 10/28/16.

Accession Number: 20161028-5152.

Comments Due: 5 p.m. ET 11/18/16.

Docket Numbers: ER17-219-000.

Applicants: PacifiCorp.

Description: § 205(d) Rate Filing: OATT Revised Sections (Ancillary Services) to be effective 1/1/2017.

Filed Date: 10/28/16.

Accession Number: 20161028-5155.

Comments Due: 5 p.m. ET 11/18/16.

Docket Numbers: ER17-220-000.

Applicants: Duke Energy Carolinas, LLC.

Description: § 205(d) Rate Filing: Amendment to DEC-Duke Cities NITSAs to be effective 10/1/2016.

Filed Date: 10/28/16.

Accession Number: 20161028-5158.

Comments Due: 5 p.m. ET 11/18/16.

Docket Numbers: ER17-221-000.

Applicants: Southwest Power Pool, Inc.

Description: § 205(d) Rate Filing: 607R29 Westar Energy, Inc. NITSA NOA to be effective 1/1/2017.

Filed Date: 10/28/16.

Accession Number: 20161028-5162.

Comments Due: 5 p.m. ET 11/18/16.

Docket Numbers: ER17-222-000.

Applicants: Palmco Power PA, LLC.

Description: § 205(d) Rate Filing: Modify Market-Based Rate Tariff to be effective 11/2/2016.

Filed Date: 10/28/16.

Accession Number: 20161028-5175.

Comments Due: 5 p.m. ET 11/18/16.

Docket Numbers: ER17-223-000.

Applicants: Metropolitan Edison Company, Pennsylvania Electric Company, PJM Interconnection, L.L.C.

Description: Tariff Cancellation: Notice of Cancellation of Service Agreement No. 4181 to be effective 1/1/2017.

Filed Date: 10/28/16.

Accession Number: 20161028-5204.

Comments Due: 5 p.m. ET 11/18/16.

Docket Numbers: ER17-224-000.

Applicants: PJM Interconnection, L.L.C.

Description: Tariff Cancellation: Notice of Cancellation of WMPA, SA No. 3261, Queue No. W3-045 to be effective 10/28/2016.

Filed Date: 10/28/16.

Accession Number: 20161028-5210.

Comments Due: 5 p.m. ET 11/18/16.

The filings are accessible in the Commission's eLibrary system by clicking on the links or querying the docket number.

Any person desiring to intervene or protest in any of the above proceedings must file in accordance with Rules 211 and 214 of the Commission's Regulations (18 CFR 385.211 and 385.214) on or before 5:00 p.m. Eastern time on the specified comment date. Protests may be considered, but intervention is necessary to become a party to the proceeding.

eFiling is encouraged. More detailed information relating to filing requirements, interventions, protests, service, and qualifying facilities filings can be found at: http://www.ferc.gov/docs-filing/efiling/filing-req.pdf. For other information, call (866) 208-3676 (toll free). For TTY, call (202) 502-8659.

Dated: October 28, 2016.
Nathaniel J. Davis, Sr.,
Deputy Secretary.

[FR Doc. 2016-26541 Filed 11-2-16; 8:45 am]

BILLING CODE 6717-01-P